LEGAL SERVICES CORPORATION

Sunshine Act Meeting Notice

DATE AND TIME: The Legal Services Corporation's Institutional Advancement Committee (IAC) will meet telephonically on March 6, 2015. The meeting will commence at 4:00 p.m., Eastern Standard Time (EST), and will continue until the conclusion of the Committee's agenda.

LOCATION: John N. Erlenborn Conference Room, Legal Services Corporation Headquarters, 3333 K Street NW., 4th Floor, Washington, DC 20007.

STATUS OF MEETING: Closed. Upon a vote of the Board of Directors, the meeting may be closed to the public to consider and act on Leaders Council Prospective Members, ongoing grant possibilities, and fundraising updates.

A verbatim written transcript will be made of the closed session of the Board and Institutional Advancement Committee meetings. The transcript of any portions of the closed session falling within the relevant provisions of the Government in the Sunshine Act, 5 U.S.C. 552b(c)(9) will not be available for public inspection. A copy of the General Counsel's Certification that, in his opinion, the closing is authorized by law will be available upon request.

MATTERS TO BE CONSIDERED:

1. Consider and act on agenda

2. Approval of minutes of the Committee's open session meeting on January 22, 2015

3. Approval of minutes of the Committee's closed session meeting on January 22, 2015

4. Consider and act on Leaders Council Prospective Members

5. Ongoing grant possibilities

6. Fundraising update

7. Consider and act on adjournment of meeting

CONTACT PERSON FOR INFORMATION: Katherine Ward, Executive Assistant to the Vice President & General Counsel, at (202) 295-1500. Questions may be sent by electronic mail to FR_NOTICE_QUESTIONS@lsc.gov.

ACCESSIBILITY: LSC complies with the Americans with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: February 24, 2015.
Stefanie K. Davis,
Assistant General Counsel.

[FR Doc. 2015-04129 Filed 2-24-15; 4:15 pm]

BILLING CODE 7050-01-P